DEPARTMENT OF JUSTICE

Antitrust Division

Notice Pursuant to the National Cooperative Research and Production Act of 1993—Outdoor Power Equipment Institute

Notice is hereby given that, on September 16, 2004, pursuant to section 6(a) of the National Cooperative Research and Production Act of 1993, 15 U.S.C. 4301 et seq. (“the Act”), Outdoor Power Equipment Institute (“OPEI”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: Outdoor Power Equipment Institute, Alexandria, VA. The nature and scope of OPEI's standards development activities are: The development of voluntary standards for wheeled and handheld outdoor power equipment including, but not limited to: Walk-behind mowers; ride-on machines with mowers; snow throwers; commercial turf care equipment; powered shredder/grinders and shredded/baggers; walk-behind powered rotary tillers; hand-held and backpack, gasoline-engine-powered blowers; grass trimmers; and brush cutters.

Dorothy B. Fountain,
Deputy Director of Operations, Antitrust Division.

[FR Doc. 04-25855 Filed 11-19-04; 8:45 am]

BILLING CODE 4410-11-M